DEPARTMENT OF THE INTERIOR

Bureau of Land Management

[AK-990-02-5101-ER-L016]

Notice of Availability of Trans-Alaska Pipeline System Right-of-Way Renewal Draft Environmental Impact Statement (DEIS), Announcement of Public Review Period and Hearings Schedule Including Subsistence-Related Hearings

AGENCY: Bureau of Land Management, Interior.

ACTION: Notice of Availability of DEIS, Announcement of Public Review Period and Hearings Schedule Including Subsistence-Related Hearings.

SUMMARY: The Bureau of Land Management (BLM) announces availability of the Trans-Alaska Pipeline System (TAPS) Right-of-Way Renewal Draft Environmental Impact Statement (DEIS). The current Right-of-Way expires in 2004. Three alternatives are considered in the DEIS: to renew the TAPS Right-of-Way for 30 years, to renew the Right-of-Way for less than 30 years, and to not renew the Right-of-Way. Appendix E of the Draft EIS indicates that each of the alternatives may affect subsistence activities. As required by section 810 of the Alaska National Interest Lands Conservation Act (ANILCA), BLM is evaluating the effects of the alternatives on subsistence uses and needs and is holding public hearings in the vicinity of the area involved.

BLM is closely cooperating with the State of Alaska in preparation of the DEIS and is coordinating all aspects of the renewal process within the purview of the inter-agency Joint Pipeline Office. BLM and the Alaska Department of Natural Resources will offer joint public hearings for the TAPS Renewal DEIS, ANILCA 810 Subsistence, and the State of Alaska Commissioner's Analysis and Proposed Determination. Although the meetings are being held jointly, commenters will be asked to state if they are addressing state or federal documents.

DATES: The DEIS will be available beginning July 5, 2002. The public will have 45 days to review and comment on the DEIS. The BLM will accept written comments on the DEIS postmarked by August 20, 2002. Written comments may also be hand-delivered to the Joint Pipeline Office in Anchorage, Alaska, by 4 p.m. ADT on August 20, 2002.

ADDRESSES: Written comments should be mailed to BLM TAPS Renewal EIS, Argonne National Laboratory EAD/900, 9700 S. Cass Avenue, Argonne, IL 60439. As an alternative, written comments can be hand-delivered to BLM TAPS Renewal Team in Anchorage at the Joint Pipeline Office 411 W. 4th Avenue, Suite 2 [Do not mail comments to this address]. Comments also can be submitted through the “Public Comment Form” feature on the TAPS Renewal EIS Web site at http://tapseis.anl.gov, by fax toll free to 1-866-542-5904, or by voice message toll free at 1-866-542-5903.

FOR FURTHER INFORMATION CONTACT: Rob McWhorter at the Joint Pipeline Office, 411 W 4th Avenue, Suite 2, Anchorage, Alaska, phone 907-257-1355, e-mail rmcwhort@jpo.doi.gov, or visit the TAPS Renewal EIS Web site at http://tapseis.anl.gov.

Withholding of Personal Information: It is the BLM's practice to make comments, including names and addresses of commenters, available for public review during regular business hours. Individual commenters may request that we withhold their home address from the public comment record, and we will honor such requests to the extent allowable by law. Circumstances may also arise in which we would withhold from the public comment record a commenter's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: The EIS is being prepared under authority of the Federal Land Policy and Management Act of 1976 (43 U.S.C. 1701), as amended; the National Environmental Policy Act of 1969 (42 U.S.C. 4321), as amended; the Council on Environmental Quality regulations (40 CFR parts 1500-1508); and the Mineral Leasing Act of 1920 (30 U.S.C. 185), as amended, including Title II—the Trans-Alaska Pipeline Authorization Act (43 U.S.C. 1651). Argonne National Laboratory, Argonne, Illinois, is providing technical assistance and is preparing the DEIS under supervision and direction by BLM.

DEIS Availability

To obtain an electronic copy:

• visit the TAPS Renewal EIS Web site at http://tapseis.anl.gov (available as downloadable and searchable pdf files),

• order a CD through the TAPS Renewal EIS Web site at http://tapseis.anl.gov

Hard copies of this voluminous document will be available at the following public reading rooms or can be requested through the TAPS Renewal EIS Web site at http://tapseis.anl.gov

Anchorage

• Alaska Resources Library; 3150 C Street, Suite 100

• Z.J. Loussac Library, 3600 Denali Street

• Bureau of Land Management Public Room; 222 West 7th Avenue, #13

• State of Alaska, Department of Natural Resources Public Information Center; 550 West 7th Avenue, Suite 1260

Barrow

Tuzzy Consortium Library

Cordova Public Library

Fairbanks

• Fairbanks North Star Borough Public Library; 1215 Cowles Street

• Bureau of Land Management Public Room; 1150 University Avenue

• State of Alaska, Department of Natural Resources Public Information Center; 3700 Airport Way

Glennallen

Bureau of Land Management; Glennallen Field Office

Juneau

Alaska State Library

Valdez Public Library

Washington, DC

Department of the Interior Library; 1849 C Street, NW

Meeting/Hearing Dates and Locations

Oral or written comments can be made at one of the following locations on the dates specified:

• Friday, July 26, 2002, 7 p.m. ADT: Cordova; Moose Lodge, 514 2nd Street

• Tuesday, July 30, 2002, 7 p.m. ADT: Valdez; Valdez Convention and Civic Center, Ballroom 1, 110 Clifton Drive

• Wednesday, July 31, 2002, 7 p.m. ADT: Glennallen; Copper River High School auditorium, Mile 186, Glenn Highway

• Monday, August 5, 2002, 7 p.m. ADT: Anchorage; Anchorage Hilton Hotel, Denali Room, 500 West Third Avenue

• Tuesday, August 6, 2002, 7 p.m. ADT: Fairbanks; Chena River Convention Center, Conference Room/Main Hall A, 109 Clay Street

• Wednesday, August 7, 2002, 2 p.m. ADT: Minto, Minto Lodge

• Friday, August 9, 2002, 7 p.m. ADT: Barrow; Inupiat Heritage Center, multi-purpose room; 5421 Northstar Street (Inupiat translator)

The BLM seeks information and comments on the potential impacts discussed in the DEIS and additional data or information that would improve the analysis in the DEIS. BLM is also seeking comments on the subsistence evaluation in Appendix E of the DEIS.

Linda S.C. Rundell,
Acting State Director.

[FR Doc. 02-16236 Filed 7-3-02; 8:45 am]

BILLING CODE 4310-JA-P